DEPARTMENT OF DEFENSE

Department of the Navy

Notice of Availability of Invention for Licensing; Government-Owned Invention

AGENCY: Department of the Navy, DOD.

ACTION: Notice.

SUMMARY: The invention listed below is assigned to the United States Government as represented by the Secretary of the Navy and is available for licensing by the Department of the Navy. U.S. Patent Application Ser. No. 09/072,283 entitled “Materials, Method, and Apparatus for Detecting and Monitoring of Chemical Species,” Navy Case No. 78539.

ADDRESSES: Requests for copies of the patent application cited should be directed to the Naval Research Laboratory, Code 3008.2, 4555 Overlook Avenue, SW, Washington, DC 20375-5320, and must include the Navy Case Number.

FOR FURTHER INFORMATION CONTACT: Ms. Catherine M. Cotell, Ph.D., Head, Technology Transfer Office, NRL Code 1004, 5320, telephone (202) 767-7230.

Authority: 35 U.S.C. 207, 37 CFR Part 404.

Dated: February 17, 2000.
J.L. Roth,
Lieutenant Commander, Judge Advocate General's Corps, U.S. Navy, Federal Register Liaison Officer.

[FR Doc. 00-4501 Filed 2-24-00; 8:45 am]

BILLING CODE 3810-FF-P